DEPARTMENT OF TRANSPORTATION

Federal Highway Administration

Notice of Final Federal Agency Actions on Proposed Highway in Washington

AGENCY: Federal Highway Administration (FHWA), Department of Transportation (DOT).

ACTION: Notice of limitation on claims for judicial review of actions by FHWA.

SUMMARY: This notice announces actions taken by the FHWA that are final. The actions relate to National Environmental Policy Act (NEPA) approvals for a proposed highway project, the I-405, SR 522 Vicinity to SR 527 Express Toll Lanes Improvement Project between Mileposts 21.79 and 27.06, located mostly in Bothell, Washington in the Counties of King and Snohomish, State of Washington.

DATES: By this notice, the FHWA is advising the public of final agency actions subject to 23 U.S.C. 139(l)(1). A claim seeking judicial review of the Federal agency actions on the highway project will be barred unless the claim is filed on or before December 30, 2021. If the Federal law that authorizes judicial review of a claim provides a time period of less than 150 days for filing such claim, then that shorter time period still applies.

FOR FURTHER INFORMATION CONTACT: For FHWA, Lindsey Handel, Area Engineer, Federal Highway Administration, 711 S Capitol Way, Suite 501, Olympia, WA 98501-1284, 360-753-9480, lindsey.handel@dot.gov; or Robert Woeck, I-405/SR 167 Megaprogram Deputy Program Administrator, Washington State Department of Transportation, 600 108th Avenue NE, Suite 405, Bellevue, Washington 98004, 425-456-8585, woeckro@wsdot.wa.gov.

SUPPLEMENTARY INFORMATION: Notice is hereby given that FHWA has taken final agency action(s) subject to 23 U.S.C. 139(l)(1) by issuing National Environmental Policy Act approvals for the following highway project in the State of Washington: The I-405, SR 522 Vicinity to SR 527 Express Toll Lanes Improvement Project (Project) proposes to make roadway, structural, trail, and transit infrastructure improvements to I-405 from milepost (MP) 21.79 to MP 27.06, located mostly in Bothell, Washington. The Project proposes to create a dual express toll lane (ETL) system by restriping existing lanes from MP 21.79 to MP 22.30 and widening I-405 to add one ETL in each direction between MP 22.30 and MP 26.30. At the SR 522 interchange, the Project would construct direct access ramps to and from the ETL, inline transit stations in the I-405 median, and three new signalized intersections on SR 522, which would change where the freeway portion of SR 522 begins and ends. Just south of the SR 527 interchange at 17th Avenue SE, the Project would construct direct access ramps to and from the ETL and inline transit stations in the I-405 median. The Project would reconstruct new bridges over the Sammamish River, build three new noise walls, construct bicycle and pedestrian facilities, reconfigure local streets, correct five fish barriers, and make stormwater improvements.

The actions by the Federal agencies, and the laws under which such actions were taken, are described in the I-405, SR 522 Vicinity to SR 527 Express Toll Lanes Improvement Project Environmental Assessment (EA) issued on July 2, 2020, Finding of No Significant Impact (FONSI) for the project published on July 29, 2021 and in other documents in the project records. The EA, FONSI, and other project records are available from FHWA and WSDOT at the addresses provided in the “For Further Information Contact” section of this notice and can be found at: http://www.wsdot.wa.gov/Projects/i405/sr-522-sr-527/environmental-review/.

This notice applies to all Federal agency decisions that are final as of the issuance date of this notice and all laws under which such actions were taken, including but not limited to:

1. General: National Environmental Policy Act (NEPA) (42 U.S.C. 4321-4351); Federal-Aid Highway Act (23 U.S.C. 109 and 23 U.S.C. 128).

2. Air: Clean Air Act (42 U.S.C. 7401-7671q).

3. Land: Section 4(f) of the Department of Transportation Act of 1966 (49 U.S.C. 303; 23 U.S.C. 138); Landscaping and Scenic Enhancement (Wildflowers) (23 U.S.C. 319).

4. Wildlife: Endangered Species Act (16 U.S.C. 1531-1544 and Section 1536); Marine Mammal Protection Act (16 U.S.C. 1361-1423h); Fish and Wildlife Coordination Act (16 U.S.C. 661-667d); Migratory Bird Treaty Act (16 U.S.C. 703-712).

5. Historic and Cultural Resources: Section 106 of the National Historic Preservation Act of 1966, as amended (16 U.S.C. 470f); Archeological Resources Protection Act of 1977 (16 U.S.C. 470aa-470mm); Archeological and Historic Preservation Act (16 U.S.C. 469-469c); Native American Grave Protection and Repatriation Act (NAGPRA) (25 U.S.C. 3001-3013).

6. Social and Economic: American Indian Religious Freedom Act (42 U.S.C. 1996); Farmland Protection Policy Act (FPPA) (7 U.S.C. 4201-4209).

7. Wetlands and Water Resources: Clean Water Act (Section 404, Section 401, Section 319) (33 U.S.C. 1251-1387); Land and Water Conservation Fund (LWCF) (16 U.S.C. 4601-4604); Safe Drinking Water Act (SDWA) (42 U.S.C. 300f-300j-26)); Rivers and Harbors Act of 1899 (33 U.S.C. 401-406); Wild and Scenic Rivers Act (16 U.S.C. 1271-1287); Emergency Wetlands Resources Act, (16 U.S.C. 3901, 3921); Wetlands Mitigation (23 U.S.C. 119(g) and 133(b)(14)); Flood Disaster Protection Act, 42 U.S.C. 4012a, 4106).

8. Executive Orders: E.O. 11990 Protection of Wetlands; E.O. 11988 Floodplain Management; E.O. 12898, Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: July 26, 2021.
Melinda Roberson,
Acting Division Administrator, Federal Highway Administration, Olympia, Washington.

[FR Doc. 2021-16320 Filed 7-30-21; 8:45 am]

BILLING CODE 4910-RY-P